DEPARTMENT OF JUSTICE

Antitrust Division

Notice Pursuant to the National Cooperative Research and Production Act of 1993—Intersocietal Accreditation Commission

Notice is hereby given that, on June 25, 2008, pursuant to Section 6(a) of the National Cooperative Research and Production Act of 1993, 15 U.S.C. 4301 et seq. (“the Act”), Intersocietal Accreditation Commission (“IAC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Intersocietal Accreditation Commission, Columbia, MD. The nature and scope of IAC's standards development activities are: the development of consensus standards for quality assurance in diagnostic imaging facilities, thus improving the quality of patient care provided in private offices clinics and hospitals where such medical tests are provided. The IAC develops consensus standards in the following categories: (a) Accreditation of vascular laboratories (extracranial cerebrovascular, intracranial cerebrovascular, peripheral arterial, peripheral venous, visceral vascular, screening), (b) accreditation of echocardiography laboratories (adult transthoracic, adult transesophageal, adult stress, pediatric transthoracic, pediatric transesophageal, fetal), (c) accreditation of nuclear medicine laboratories (nuclear cardiology, general nuclear medicine, PET), (d) accreditation of magnetic resonance laboratories (body [pelvis, abdomen, chest, and/or breast], cardiovascular, musculoskeletal, neurological), and (e) accreditation of computed tomography laboratories (cardiovascular, whole body, neurological, sinus and temporal bone).

Patricia A. Brink,
Deputy Director of Operations, Antitrust Division.

[FR Doc. E8-17509 Filed 7-30-08; 8:45 am]

BILLING CODE 4410-11-M